DEPARTMENT OF JUSTICE

Notice of Lodging of Settlement Pursuant to Clean Air Act

Notice is hereby given that on September 17, 2008, a proposed Consent Decree in United States v. City of Winslow, Civil Action No. CV-07-8024-PCT-SMM, was lodged with the United States District Court for the District of Arizona.

In this action, the United States, on behalf of the United States Environmental Protection Agency (“EPA”), sued the City of Winslow, Arizona, City Administrator, John Roche, and former Facility owner William Christie (collectively, “Defendants”) for violations of the Clean Air Act, 42 U.S.C. 7401 et seq., and the National Emission Standard for Hazardous Air Pollutants for Asbestos, 40 CFR Part 61, Subpart M. The proposed Consent Decree resolves claims against the Defendants for their failure to provide advanced notice to the EPA of the demolition of a nine-building apartment complex in Winslow (“the Facility”), and their failure to comply with applicable regulations during the demolition and subsequent removal of regulated asbestos-containing materials from the Facility.

The proposed Consent Decree requires payment of a $240,400 civil penalty, due jointly and severally from the three Defendants. No injunctive relief is required, as the Facility has been completely demolished and none of the Defendants are in the on-going business of demolition.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. City of Winslow, D.J. Ref. 90-5-2-1-09144.

The Consent Decree may be examined at U.S. EPA Region IX at 75 Hawthorne Street, San Francisco, CA 94105. During the public comment period, the Consent Decree may also be examined on the following Department of Justice Web site, to http://www.usdoj.gov/enrd/Consent_Decrees.html . A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury or, if by e-mail or fax, forward a check in that amount to the Consent Decree Library at the stated address.

Henry Friedman,
Assistant Chief, Environmental Enforcement Section, Environment and Natural Resources Division.

[FR Doc. E8-22525 Filed 9-24-08; 8:45 am]

BILLING CODE 4410-15-P